DEPARTMENT OF THE INTERIOR

National Park Service

National Register of Historic Places; Notification of Pending Nominations and Related Actions

Nominations for the following properties being considered for listing or related actions in the National Register were received by the National Park Service before March 31, 2007. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by May 1, 2007.

J. Paul Loether,
Chief, National Register of Historic Places/National Historic Landmarks Program.

CALIFORNIA

Butte County

Oroville Carnegie Library, (California Carnegie Libraries MPS) 1675 Montgomery St., Oroville, 07000405

Monterey County

Whalers Cabin, Pt. Lobos State Reserve, 4 mi. S. of Carmel, Carmel, 07000406

IOWA

Scott County

Schmidt, Louis C. and Amelia L., House, 1138 Oneida Ave., Davenport, 07000407

MAINE

Kennebec County

Lockwood Mill Historic District, 6,6B,8,10 and 10B Water St., Waterville, 07000412

Lincoln County

Gray House, Old, 60 Tavenner Rd., Boothbay, 07000408

Washington County

Machias Balley Grange, #360 (Former), 3 Elm St., Machias, 07000410

Windswept, 421 Petit Manan Point Rd., Steuben, 07000411

York County

Johnson, Dennis, Luber Company Mill, NE. side of ME 5, 0.3 mi. N. of Silas Brown Rd., Waterboro, 07000409

NEW MEXICO

Santa Fe County

Dodge—Bailey House, 3775 Old Santa Fe Trail, Santa Fe, 07000414

NORTH CAROLINA

Caswell County

Red House Presbyterian Church, 13409 NC 119 N., Semora, 07000413

VIRGINIA

Frederick County

Fort Colvin, 104 Stonebrook Rd., Winchester, 07000416

Rockingham County

Driver, David and Catherine, Farm, 3796 Long Meadow Dr., Timberville, 07000415

A request for REMOVAL has been made for the following resource:

KANSAS

Sedgwick County

McMullen House, 1003 N. Faulkner, Wichita, 07000138

[FR Doc. E7-7092 Filed 4-13-07; 8:45 am]

BILLING CODE 4312-51-P